DEPARTMENT OF HEALTH AND HUMAN SERVICES

Health Resources and Services Administration

Part C Early Intervention Services Grant Under the Ryan White HIV/AIDS Program

AGENCY: Health Resources and Services Administration (HRSA), HHS.

ACTION: Notice of Non-Competitive One-Time Program Expansion Supplement Award of Ryan White HIV/AIDS Program, Part C Funds for the Tutwiler Clinic.

SUMMARY: HRSA will award non-competitively Ryan White HIV/AIDS Program, Part C funds to the Tutwiler Clinic, Tutwiler, Mississippi, to support comprehensive primary care services for persons living with HIV/AIDS, including primary medical care, laboratory testing, oral health care, outpatient mental health and substance abuse treatment, specialty and subspecialty care, referrals for health and support services and adherence monitoring/education services in order to ensure continuity of critical HIV medical care and treatment services, and to avoid a disruption of HIV clinical care to clients in Marks, Mississippi, and the surrounding counties.

SUPPLEMENTARY INFORMATION: Grantee of record: Deporres Delta Ministries, Marks, Mississippi.

Intended recipient of the award: Tutwiler Clinic, Tutwiler, Mississippi.

Amount of the award: $178,579 to ensure ongoing clinical services to the target population.

Authority: Section 2651 of the Public Health Service Act, 42 U.S.C. 300ff-51.

CFDA Number: 93.918.

Project period: July 1, 2010, extended to December 31, 2011, and the period of support for this award is from July 1, 2011 to December 31, 2011.

Justification for the Exception to Competition

Critical funding for HIV medical care and treatment services to clients in the Delta area of Mississippi will be continued through a non-competitive one-time program expansion supplement award to the Tutwiler Clinic, because it has the fiscal and administrative infrastructure to administer the Part C Grant. The Tutwiler Clinic will contract with the Northwest Mississippi Regional Medical Center, Clarksdale, Mississippi, which will be taking over the clinic, providers, and staff of Deporres Delta Ministries, and continue providing medical and HIV care in Marks, Mississippi. The Northwest Mississippi Regional Medical Center is the only available provider of quality HIV services, and it has the resources the Tutwiler Clinic needs in order to provide quality HIV care. This is a temporary replacement award, as the previous grant recipient serving this population notified the Health Resources and Services Administration (HRSA) that it could not continue providing services. HRSA's HIV/AIDS Bureau identified the Tutwiler Clinic as the best qualified entity for this temporary grant. The Tutwiler Clinic, contracting with the Northwest Mississippi Regional Medical Center, can ensure comprehensive services are provided including primary medical care including antiretroviral therapies, prevention education and medication adherence teaching, mental health referrals, substance abuse, and dental services, as well as on-site medical HIV case management services. The additional funding will provide support to retain the targeted population in care, and the Tutwiler Clinic, with the Northwest Mississippi Regional Medical Center, will be able to provide critical services, with the least amount of disruption to the service population while the service area is re-competed.

This non-competitive one-time program expansion supplement award will cover the time period from July 1, 2011 through December 31, 2011. This service area will be included in the upcoming competition for the Part C HIV Early Intervention Services for project periods starting January 1, 2012.

FOR FURTHER INFORMATION CONTACT: Dora Ober, by e-mail, dober@hrsa.gov, or by phone, 301-443-0759.

Dated: May 23, 2011.
Mary K. Wakefield,
Administrator.

[FR Doc. 2011-13194 Filed 5-26-11; 8:45 am]

BILLING CODE 4165-15-P